DEPARTMENT OF HEALTH AND HUMAN SERVICES

National Institutes of Health

Clinical Center; Notice of Meeting

Pursuant to section 10(d) of the Federal Advisory Committee Act, as amended (5 U.S.C. appendix 2), notice is hereby given of a meeting of the Board of Governors of the Warren Grant Magnuson Clinical Center.

The meeting will be open to the public as indicated below, with attendance limited to space available. Individuals who plan to attend and need special assistance, such as sign language interpretation or other reasonable accommodations, should notify the Contact Person listed below in advance of the meeting.

The meeting will be closed to the public in accordance with the provisions set forth in section 552b(c)(6), Title 5 U.S.C., as amended for discussion of personal qualifications and performance, the disclosure of which would constitute a clearly unwarranted invasion of personal privacy.

Name of Committee: Board of Governors of the Warren Grant Magnuson Clinical Center.

Date: January 27, 2003.

Open: 9 a.m. to 11 a.m.

Agenda: For discussion of programmatic policies and issues.

Place: National Institutes of Health, Clinical Center, 9000 Rockville Pike, Bethesda, MD 20892.

Closed: 11 a.m. to 12 p.m.

Agenda: To review and evaluate personnel qualifications.

Place: National Institutes of Health, Clinical Center, 9000 Rockville Pike, Bethesda, MD 20892.

Contact Person: Maureen E. Gormley, Executive Secretary, Warren Grant Magnuson Clinical Center, National Institutes of Health, Building 10, Room 2C146, Bethesda, MD 20892, 301/496-2897.

Information is also available on the Institute's/Center's home page: http://www.cc.nih.gov/, where an agenda and any additional information for the meeting will be posted when available.

Dated: December 20, 2002.
LaVerne Y. Stringfield,
Director, Office of Federal Advisory Committee Policy.

FR Doc. 02-33028 Filed 12-30-02; 8:45 am]

BILLING CODE 4140-01-M